Title 3—

The President

Proclamation 10605 of August 4, 2023

National Health Center Week, 2023

By the President of the United States of America

A Proclamation

Every year, our Nation's nearly 1,400 federally funded community health centers provide critical, accessible, and affordable medical, dental, and behavioral health care to over 30 million Americans. Spread across every State and territory, these vital health care centers help make real the promise that health care in this country should be a right, not a privilege. During National Health Center Week, we celebrate their dedicated staff and recommit to providing the resources these vital centers need to continue protecting the well-being of the American people.

From the beginning of my Administration, we have made historic investments to strengthen our Nation's community health center network. Through the American Rescue Plan, we invested $7.6 billion to grow the health center workforce, update facilities, and provide them with the necessary resources to fight the COVID-19 pandemic. The Bipartisan Infrastructure Law is rebuilding our roads, highways, water systems, and high-speed internet to better connect people and places with the care they need. My latest Budget would renew critical support for the Health Center Program and put it on a path to double its size and expand its reach.

Community health centers are key to tackling health care disparities in underserved communities. By improving access to screenings, they bring us closer to ending cancer as we know it, which is the goal of my Cancer Moonshot Initiative. By connecting more Americans to behavioral health services, they build an infrastructure of service that addresses mental health needs—a key pillar of my Unity Agenda. By supporting the delivery of pregnancy-related care, they improve the lives of mothers and children across the country.

Time and again, evidence reveals that health centers make a powerful difference in the communities they serve. During the height of the COVID-19 pandemic, community health care centers distributed over 20 million vaccines—nearly 70 percent of which went to people of color and more than 20 percent to those who lived in rural areas. In these ways, they help bridge a critical gap in access to lifesaving prevention and treatment. And because of their patient-majority governing board structure, health centers ensure that their mission and decision-making are informed not only by medical experts but, principally, by the people they serve.

These investments are a matter of human dignity and fairness. When we fail to invest in the health outcomes of some communities, we all suffer. But when we take the necessary actions to improve care in every zip code, we are all better for it.

This week, we thank the heroic health center staff on the front lines of improving lives. We acknowledge your sacrifice and courage, especially at the height of the pandemic. We are grateful for your daily work that saves lives and protects the future of our country. You make the promise of America real—a promise to lift everyone up and leave no one behind. My Administration is committed to supporting you as you make our Nation healthier, more resilient, and more just.

NOW, THEREFORE, I, JOSEPH R. BIDEN JR., President of the United States of America, by virtue of the authority vested in me by the Constitution and the laws of the United States, do hereby proclaim the week of August 6 through August 12, 2023, as National Health Center Week.

IN WITNESS WHEREOF, I have hereunto set my hand this fourth day of August, in the year of our Lord two thousand twenty-three, and of the Independence of the United States of America the two hundred and forty-eighth.

[FR Doc. 2023-17179

Filed 8-8-23; 8:45 am]

Billing code 3395-F3-P